DEPARTMENT OF ENERGY

Federal Energy Regulatory Commission

[Docket No. IC10-555-001]

Commission Information Collection Activities (FERC-555); Comment Request; Submitted for OMB Review

November 24, 2010.

AGENCY: Federal Energy Regulatory Commission, DOE.

ACTION: Notice.

SUMMARY: In compliance with the requirements of section 3507 of the Paperwork Reduction Act of 1995, 44 U.S.C. 3507, the Federal Energy Regulatory Commission (Commission or FERC) has submitted the information collection described below to the Office of Management and Budget (OMB) for review of the information collection requirements. Any interested person may file comments directly with OMB and should address a copy of those comments to the Commission as explained below. The Commission issued a Notice in the Federal Register (75 FR 57744, 09/22/2010) requesting public comments. FERC received no comments on the FERC-555 and has made this notation in its submission to OMB.

DATES: Comments on the collection of information are due by January 3, 2011.

ADDRESSES: Address comments on the collection of information to the Office of Management and Budget, Office of Information and Regulatory Affairs, Attention: Federal Energy Regulatory Commission Desk Officer. Comments to OMB should be filed electronically, c/o oira_submission@omb.eop.gov and include OMB Control Number 1902-0098 for reference. The Desk Officer may be reached by telephone at 202-395-4638.

A copy of the comments should also be sent to the Federal Energy Regulatory Commission and should refer to Docket No. IC10-555-001. Comments may be filed either electronically or in paper format. Those persons filing electronically do not need to make a paper filing. Documents filed electronically via the Internet must be prepared in an acceptable filing format and in compliance with the Federal Energy Regulatory Commission submission guidelines. Complete filing instructions and acceptable filing formats are available at http://www.ferc.gov/help/submission-guide.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

For paper filings, the comments should be submitted to the Federal Energy Regulatory Commission, Secretary of the Commission, 888 First Street, NE., Washington, DC 20426, and should refer to Docket No. IC10-555-001.

Users interested in receiving automatic notification of activity in FERC Docket Number IC10-555 may do so through eSubscription at http://www.ferc.gov/docs-filing/esubscription.asp. All comments may be viewed, printed or downloaded remotely via the Internet through FERC's homepage using the “eLibrary” link. For user assistance, contact ferconlinesupport@ferc.gov or toll-free at (866) 208-3676, or for TTY, contact (202) 502-8659.

FOR FURTHER INFORMATION CONTACT: Ellen Brown may be reached by e-mail at DataClearance@FERC.gov, by telephone at (202) 502-8663, and by fax at (202) 273-0873.

SUPPLEMENTARY INFORMATION: The information collected under the requirements of FERC-555, “Records Retention Requirements” (OMB No. 1902-0098), is used by the Commission to carry out its responsibilities in implementing the statutory provisions of sections 301, 304 and 309 of the Federal Power Act (FPA) (16 U.S.C. 825, 825c and 825h), sections 8, 10 and 16 of the Natural Gas Act (NGA) (15 U.S.C. 717-717w), and section 20 of the Interstate Commerce Act (ICA, 49 U.S.C. 20).

The regulations for preservation of records establish retention periods, necessary guidelines, and requirements for retention of applicable records for the regulated public utilities, natural gas and oil pipeline companies subject to the Commission's jurisdiction. These records will be used by the regulated companies as the basis for their required rate filings and reports for the Commission. In addition, the records will be used by the Commission's audit staff during compliance reviews, by enforcement staff during investigations, and for special analyses as deemed necessary by the Commission.

Action: The Commission is requesting a three-year extension of the current expiration date, with no changes to the record keeping requirements.

Burden Statement: In order to obtain a more accurate burden figure, Commission staff asked a small number of FERC-555 respondents to estimate the burden imposed by this data collection. The results show that the record retention requirements under FERC-555 were underestimated in the previous renewal of this information collection.¹ The following table portrays the updated burden estimate based on industry responses:

¹ The previous estimate reported average burden hours per response and total burden hours as 2,402 and 1,237,030 respectively. Further, the previous estimate reported the average annual cost per respondent and total annual cost as $141,045 and $72,638,045 respectively. Finally, the estimate for the number of respondents has decreased from 515 to 475.

FERC data collection | Number of respondents annually | Average Number of responses per respondent | Average burden hours per response ² | Total annual burden hours
| (1) | (2) | (3) | (1) × (2) × (3)
FERC-555 | 475 | 1 | 4,968 | 2,359,800

The ² estimated total annual cost burden to respondents includes labor costs associated with record retention ($65,597,025 or $152,423 per company) and both electronic and non-electronic record storage costs ($72,400,925 or $138,099 per company). The estimated total annual cost is $137,997,950; the total annual cost per respondent is $290,522.³

² Record retention burden differs greatly by the size of the company and this figure captures an average across all jurisdictional companies. Thus a small company may require fewer than 1,000 hours per year to comply while a large company may require more than 10,000 hours per year to comply.

³ These cost estimates are based on the information received from contacting actual companies and asking for estimates of record retention costs. There is no specific rate used in these cost estimates.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimates of the burden of the proposed collection of information, including the validity of the methodology and assumptions used; (3) ways to enhance the quality, utility and clarity of the information to be collected; and (4) ways to minimize the burden of the collections of information on those who are to respond, including the use of appropriate automated, electronic, mechanical, or other technological collection techniques or other forms of information technology, e.g. permitting electronic submission of responses.

Kimberly D. Bose,
Secretary.

[FR Doc. 2010-30255 Filed 11-30-10; 8:45 am]

BILLING CODE 6717-01-P